DEPARTMENT OF COMMERCE

National Oceanic and Atmospheric Administration

Hydrographic Services Review Panel Meeting for September 20-22, 2022

AGENCY: National Ocean Service (NOS), National Oceanic and Atmospheric Administration (NOAA), Department of Commerce (DOC).

ACTION: Notice of public meeting and opportunity to comment.

SUMMARY: This serves as notice of a public meeting for the NOAA Hydrographic Services Review Panel (HSRP). This meeting will include the opportunity to receive public comments on NOAA's navigation observations and positioning services topics.

DATES: The NOAA HSRP public meeting will meet in-person and via webinar on September 20-22, 2022, with times subject to change and noted in the website agenda. All times are listed in Hawaii Time (HT).

ADDRESSES: The HSRP meeting agenda with the location, draft meeting documents, presentations, and background materials are posted and updated online and can be downloaded prior to the meeting at: https://www.nauticalcharts.noaa.gov/hsrp/hsrp.html.

Advance registration is required. The agenda, speakers and times are subject to change, please refer to the meeting website listed below for the most updated information at https://www.nauticalcharts.noaa.gov/hsrp/meetings/2022/fall-2022.html.

This is a request for public comments. Comments may be submitted in advance by email, identified by “Comments September 2022 HSRP meeting,” in the subject line, or you can request to speak during the public comment period at the meeting by sending an email to: Virginia.Dentler@noaa.gov, Melanie.Colantuno@noaa.gov, Lynne.Mersfelder@noaa.gov and hydroservices.panel@noaa.gov. Comments can also be submitted through the webinar in writing during the meeting and will be noted during the public comment period.

All comments received are a part of the public record. Comments that are submitted in writing during the public comment period will be read into the record, transcribed, and become part of the meeting record. All personal identifying information (for example, name and address) voluntarily submitted by the commenter may be publicly accessible. Do not submit confidential business information or otherwise sensitive or protected information.

Public comments are encouraged and requested on the navigation observations and positioning services especially for NOS's Center for Operational Oceanographic Products and Services, National Geodetic Survey, and the Office of Coast Survey. Advance written statements will be shared with the HSRP members and included in the meeting public record. Due to the condensed nature of the meeting, each individual or group providing written public comments will be limited to one comment of no more than three minutes during the public comment period, with no repetition of previous comments. Due to time meeting constraints, comments may not be addressed during the meeting.

FOR FURTHER INFORMATION CONTACT: Lynne Mersfelder-Lewis, HSRP program manager, Office of Coast Survey, NOS, NOAA, email: Lynne.Mersfelder@noaa.gov, hydroservices.panel@noaa.gov, or phone 240-691-6106.

SUPPLEMENTARY INFORMATION:

Background

The NOAA HSRP is a Federal Advisory Committee established to advise the Under Secretary of Commerce for Oceans and Atmosphere, the NOAA Administrator, on matters related to the responsibilities and authorities set forth in section 303 of the Hydrographic Services Improvement Act of 1998, as amended, the U.S. Coast and Geodetic Survey Act, and such other appropriate matters that the Under Secretary refers to the Panel for review and advice. Attendees are required to follow all COVID-19 safety protocols including masking in areas that are deemed high COVID-19 Community Level by the Centers for Disease Control and Prevention. Past HSRP recommendation letters, issue and position papers are located online at: https://www.nauticalcharts.noaa.gov/hsrp/recommendations.html.

Matters To Be Considered

The panel is convening on issues relevant to NOAA's navigation, observations, and positioning services, particularly in Hawaii and the Pacific region. This includes stakeholder use of navigation services, data, and products, along with other topics related to hydrographic and bathymetric surveys, nautical charting, the ongoing National Spatial Reference System (NSRS) modernization—including changes to floodplain management, navigation services contributions to resilience and coastal data and information systems, coastal and ocean modeling, Physical Oceanographic Real-Time System (PORTS®) sensor enhancements and expansion, the projects of the NOAA-University of New Hampshire Joint Hydrographic Center Cooperative Agreement, updates on legislative and budget priorities, and additional topics. The meeting will focus on mapping, navigation, positioning, and observation services including the data, products, and services provided by NOAA programs and activities undertaking geodetic observations, gravity modeling, coastal and shoreline mapping, bathymetric mapping and modeling, hydrographic surveying, nautical charting, tide and water level observations, current observations, flooding, resilience, inundation and sea level rise, marine and coastal modeling, geospatial and laser imaging, detection, and ranging (LIDAR) data, and related topics. This suite of NOAA products and services support safe and efficient navigation, resilient coasts and communities, and the nationwide positioning information infrastructure to support America's climate needs and commerce. The Panel will hear about the missions and uses of NOAA's navigation, observations, and positioning services, the value these services bring, and what improvements could be made. Other matters may be considered.

Special Accommodations

This meeting is physically accessible to people with disabilities and there will be sign language interpretation and captioning services available through the webinar. Please direct requests for other auxiliary aids to Melanie.Colantuno@noaa.gov at least 10 business days in advance of the meeting.

Lorraine Robidoux,
Deputy Director, Office of Coast Survey, National Ocean Service, National Oceanic and Atmospheric Administration.

[FR Doc. 2022-19068 Filed 9-1-22; 8:45 am]

BILLING CODE 3510-JE-P